DEPARTMENT OF THE INTERIOR

Fish and Wildlife Service

Proposed Information Collection; OMB Control Number 1018-0102, Special Use Permit Applications on National Wildlife Refuges Outside Alaska

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on January 31, 2008. We may not conduct or sponsor and a person is not required to respond to a collection of information unless it displays a currently valid OMB control number.

DATES: You must submit comments on or before January 28, 2008.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION:

I. Abstract

The National Wildlife Refuge System Improvement Act of 1997 that amends the National Wildlife Refuge Administration Act of 1966 (16 U.S.C. 668dd-668ee) requires that we authorize economic privileges on any national wildlife refuge by permit only when the activity will be compatible with and contribute to refuge purposes (50 CFR 29.21). We make provision in our general refuge regulations for public entry for specialized purposes, including economic activities such as the operation of guiding and other visitor services on refuges by concessionaires or cooperators under the appropriate legal instrument or special use permits (50 CFR 25.41, 25.61, 26.36, 27.71, 27.91, 27.97, 29.1, 29.2, 30.11, 31.2, 31.13, 31.14, 31.16, and 43 CFR 5). These regulations provide the authorities and procedures for allowing permits on refuges outside of Alaska.

We will provide the permit applications as requested by interested citizens. Information that we collect helps us to:

(1) Determine if requested activities are compatible and appropriate with the purpose for which the refuge was established.

(2) Ensure that the applicant is eligible for the permit.

We will issue special use permits for a specific period as determined by the type and location of the use or visitor service provided. These permits authorize activities such as:

(1) Farming operations (haying and grazing, 50 CFR 29.2).

(2) Beneficial management tools that we use to provide the best habitat possible on some refuges (50 CFR 30.11, 31.14, 31.16).

(3) Recreational visitor service operations (50 CFR 25.41 and 25.61).

(4) Commercial filming (50 CFR 27.71) other commercial activities (50 CFR 29.1).

(5) Research, and other noncommercial activities (50 CFR 26.36).

II. Data

OMB Control Number: 1018-0102.

Title: Special Use Permit Applications on National Wildlife Refuges Outside Alaska, 50 CFR 25.41, 25.61, 26.36, 27.71, 27.91, 27.97, 29.1, 29.2, 30.11, 31.2, 31.13, 31.14, 31.16, and 43 CFR 5.

Service Form Number(s): 3-1383.

Type of Request: Revision of existing collection.

Affected Public: Individuals and households; business and other for-profit organizations; nonprofit institutions; farms; and State, local, or tribal governments.

Respondent's Obligation: Required to obtain or retain a benefit.

Frequency of Collection: On occasion.

Estimated Annual Number of Respondents: 14,500.

Estimated Total Annual Responses: 14,500.

Estimated Time Per Response: 1 hour.

Estimated Total Annual Burden Hours: 14,500.

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: November 14, 2007
Hope Grey,
Information Collection Clearance Officer, Fish and Wildlife Service.

FR Doc. E7-23132 Filed 11-27-07; 8:45 am

BILLING CODE 4310-55-S